ENVIRONMENTAL PROTECTION AGENCY

[EPA-HQ-OPP-2019-0644; FRL-10010-16-OMS]

Information Collection Request Submitted to OMB for Review and Approval; Comment Request; Application for New and Amended Pesticide Registration (Renewal)

AGENCY: Environmental Protection Agency (EPA).

ACTION: Notice.

SUMMARY: The Environmental Protection Agency (EPA) has submitted an information collection request (ICR), Application for New and Amended Pesticide Registration (EPA ICR Number 0277.20, OMB Control Number 2070-0060) to the Office of Management and Budget (OMB) for review and approval in accordance with the Paperwork Reduction Act. This is a proposed extension of the ICR, which is currently approved through September 30, 2020. Public comments were previously requested via the Federal Register on February 6, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 29, 2020.

ADDRESSES: Submit your comments to EPA, referencing Docket ID No. EPA-HQ-OPP-2019-0644, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Callie Koller, Field and External Affairs Division, Office of Pesticide Programs, 7650P, Environmental Protection Agency, 1200 Pennsylvania Ave. NW, Washington, DC 20460; telephone number: (703) 347-8248; email address: koller.callie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection request (ICR) is designed to provide the EPA with the necessary information to evaluate an application for the registration of a pesticide product, as required under section 3 of the Federal Insecticide, Fungicide, and Rodenticide Act (FIFRA) and section 408 of the Federal Food, Drug, and Cosmetic Act (FFDCA). FIFRA provides EPA with the authority to regulate the distribution, sale and use of pesticides in the United States to ensure that they will not pose unreasonable adverse effects to human health and the environment. Pesticides that meet this test receive a license or “registration.”

Form Numbers: 8570-1, 8570-4, 8570-27, 8570-34, 8570-35, 8570-36, 8570-37.

Respondents/affected entities: Pesticide and other agricultural chemical manufacturing engaged in activities related to the registration of a pesticide product.

Respondent's obligation to respond: Responses to the collection of information are mandatory under FIFRA § 3 and FFDCA § 408 as amended by FQPA.

Estimated number of respondents: 1,808 (total).

Frequency of response: On occasion.

Total estimated burden: 1,562,517 hours (per year). Burden is defined at 5 CFR 1320.03(b).

Total estimated cost: $120,563,052 (per year), which includes $0 annualized capital or operation & maintenance costs.

Changes in the estimates: The activities in this ICR increase net respondent burden by 37,624 hours annually over the levels in the currently approved collection. While burden per response levels remain unchanged, the number of responses expected in certain categories has shifted as a result of using an updated data set (Section 3 registration actions annually, on average, during the years 2015-2017) to predict future registration application levels. Additionally, in this iteration of the ICR, the Agency calculates the expected annual application burden of three proposed programs that are anticipated to come online in the next three years.

Courtney Kerwin,
Director, Regulatory Support Division.

[FR Doc. 2020-21524 Filed 9-28-20; 8:45 am]

BILLING CODE 6560-50-P